GENERAL ACCOUNTING OFFICE

Advisory Council on Government Auditing Standards; Notice of Meeting

The Advisory Council on Government Auditing Standards will meet Wednesday, May 16, 2001, from 12:30 to 4:30 p.m., and Thursday, May 17, 2001, from 8:30 a.m. to 4 p.m. in room 7C13 of the General Accounting Office Building, 441 G Sreet, NW., Washington, DC.

The Advisory Council on Government Auditing Standards will hold a meeting to discuss issues that may impact government auditing standards. The meeting is open to the public. Any interested person who plans to attend the meeting as an observer should present a copy of this meeting notice and a form of picture identification to the GAO Security Desk on the day of the meeting to obtain access to the GAO Building. Council discussions and reviews are open to the public. Members of the public will be provided an opportunity to address the Council with a brief (five minute) presentation on the afternoon of Thursday, May 17.

For further information or to notify the Council of your intention to address the Council, please contact Marcia Buchanan, Assistant Director, Government Auditing Standards, 202-512-9321.

Please check the Government Auditing Standards web page (www.gao.gov/govaud/ybk01.htm) one week prior to the meeting for a final agenda.

Marcia B. Buchanan,
Assistant Director.

[FR Doc. 01-11679 Filed 5-8-01; 8:45 am]

BILLING CODE 1610-02-M